DEPARTMENT OF TRANSPORTATION

Federal Aviation Administration

14 CFR Part 71

[Docket No. FAA-2003-16083; Airspace Docket No. 03-AAL-19]

Establishment of Class E Airspace; Manokotak, AK

AGENCY: Federal Aviation Administration (FAA), DOT.

ACTION: Final rule; correction.

SUMMARY: This action corrects a final rule in the Federal Register on Monday, December 15, 2003 (68 FR 69598). The final rule established Class E airspace at Manokotak, AK.

EFFECTIVE DATE: 0901 UTC, February 19, 2004.

FOR FURTHER INFORMATION CONTACT: Jesse Patterson, AAL-538G, Federal Aviation Administration, 222 West 7th Avenue, Box 14, Anchorage, AK 99513-7587; telephone number (907) 271-5898; fax: (907) 271-2850; email: Jesse.CTR.Patterson@faa.gov. Internet address: http://www.alaska.faa.gov/at.

SUPPLEMENTARY INFORMATION:

History

Federal Register document 03-30908 published Monday, December 15, 2003 (68 FR 69598), established Class E airspace at Manokotak, AK. The Class E airspace was incorrectly defined as the Manokotak/New Airport and should be changed to the Manokotak Airport.

Accordingly, pursuant to the authority delegated to me, the name of the airport at Manokotak, AK is corrected as follows:

PART 71—[AMENDED]

§ 71.1 [Corrected]

On page 69598, Column 3 and page 69599, column 1 change all references to Manokotak/New Airport to read Manokotak Airport.

Issued in Anchorage, AK, on February 9, 2004.
Judith G. Heckl,
Manager, Air Traffic Division, Alaskan Region.

[FR Doc. 04-3627 Filed 2-18-04; 8:45 am]

BILLING CODE 4910-13-P